NATIONAL SCIENCE FOUNDATION

Notice of Permit Applications Received Under the Antarctic Conservation Act of 1978 (P.L. 95-541)

AGENCY: National Science Foundation.

ACTION: Notice of Permit Applications Received under the Antarctic Conservation Act of 1978, Pub. L. 95-541.

SUMMARY: The National Science Foundation (NSF) is required to publish notice of permit applications received to conduct activities regulated under the Antarctic Conservation Act of 1978. NSF has published regulations under the Antarctic Conservation Act at Title 45 part 670 of the Code of Federal Regulations. This is the required notice of permit applications received.

DATES: Interested parties are invited to submit written data, comments, or views with respect to this permit application by September 27, 2002. Permit applications may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), has developed regulations that implement the “Agreed Measures for the Conservation of Antarctic Fauna and Flora” for all United States citizens. The Agreed Measures, developed by the Antarctic Treaty Consultative Parties, recommended establishment of a permit system for various activities in Antarctica and designation of certain animals and certain geographic areas as requiring special protection. The regulations establish such a permit system to designate Specially Protected Areas and Sites of Special Scientific Interest.

The applications received are as follows:

1. Applicant: Scott Kelly, PO Box 2654, Montauk, NY 11954.

Permit Application No.: 2003-008.

Activity for Which Permit is Requested: Take and Import into the U.S.A. The applicant is part of the U.S. Antarctic Program's Artists and Writers Program and will deploy to Palmer Station. He proposes to collect feathers, small bones and broken and empty eggshells and return them to the U.S. where the applicant will closely study them in order to paint carefully composed and highly detailed paintings of the found objects. Once the items are no longer needed they will be transferred to another Artist and Writer who is an educator and lecturer who works with children in schools around the country.

Location: Palmer Station, Anvers Island and surrounding unrestricted islands.

Dates: December 1, 2002 to April 1, 2003.

Applicant: Donal Manahan, Department of Biological Sciences, Scripps Institution of Oceanography, University of California, San Diego, LaJolla, CA 92093-0204.

Permit Application No.: 2003-009.

Activity for Which Permit is Requested: Introduce Non-indigenous Species into Antarctica; and Import into the United States. The applicant proposes to bring: (a) E. coli bacterial cultures [transported with other kit reagents frozen on dry ice (−80°C)]; and 150ml each of 3 algal species (Dunaliella terrtiolecta, Rhodomonas sp., and Isochrysis galbana) to Antarctica for use in experiments in a controlled laboratory setting at McMurdo Station. The E. coli will be used to replicate DNA during gene cloning. After the experiments using E. coli cultures, all media and materials are sterilized by autoclaving. Standard P-2 containment guidelines are strictly followed for the subsequent disposal of all materials and supplies. The unicellular algae will be used to start a culture collection of algae needed as food for Antarctic larval forms used in experiments conducted by the biology class. After the experiments are concluded all algae and seawater containing algae will be autoclaved.

Location: Crary Science and Engineering Laboratory, McMurdo Station, Antarctica.

Dates: October 1, 2002 to February 15, 2004.

3. Applicant: Brenda Hall, 311 Bryand GSC, University of Maine, Orono, ME 04469.

Permit Application No.: 2003-010.

Activity for Which Permit is Requested: Enter Antarctica Specially Protected Areas. The applicant proposes to enter several ASPA's to examine the glacial, geology and raised beaches of the South Shetland Islands in order to gain a better understanding of the climate and glacial history of the area. The project involves examining the stratigraphy of glacial and beach deposits, looking for striations, and collecting ancient organic material for radiocarbon dating. Soil samples will be taken by digging small(<1m²) pits in the sediment to look at the internal structure and to collect samples for later gain-size analysis and radiocarbon dating. Excavations will be refilled and the surface will be returned to near natural conditions as possible. The applicant will also map the different landforms, and survey elevations of beaches. The applicant will abide by the Management Plans for each of the Antarctic Specially Protected areas visited.

Location:

ASPA #125—Fildes Peninsula, King George Island, South Shetland Islands

ASPA #126—Byers Peninsula, Livingston Island, South Shetland Islands

ASPA #132—Potter Peninsula, King George Island, South Shetland Islands

ASPA #144—Chile Bay (Discovery Bay), Greenwich Island, South Shetland Islands

ASPA #149—Cape Shirreff, Livingston Island, South Shetland Islands

ASPA #150—Ardley Island, Maxwell Bay, King George Island, South Shetland Islands

ASPA #151—Lions Rump, King George Island, South Shetland Islands

ASPA #152—Western Bransfield Strait, off Low Island, South Shetland Islands

Dates: November 1, 2002 to January 31, 2003.

4. Applicant: Michael Castellini, Director, Institute of Marine Science, University of Alaska, Fairbanks, Fairbanks, AK 99775.

Permit Application No.: 2003-011.

Activity for Which Permit is Requested: Take. The applicant proposes to capture up to 8 Weddell seal females and 6 pups to be outfitted with diving recorders and blood sampling lines in order to collect blood samples. Recorded data and blood samples will be used to quantify the dynamics of lipid uptake and utilization in naturally foraging mammalian carnivores. The applicant will attempt to: (a) Quantify the kinetics of lipid component appearance under natural foraging conditions; (b) determine clearance rates of lipid components after foraging has ceased; (c) obtain lipid turnover rates in both diving and non-diving scenarios; and, (d) obtain lipid appearance and disappearance data in nursing seal pups.

Location: McMurdo Station and McMurdo Sound vicinity.

Dates: October 5, 2002 to December 15, 2002.

Nadene G. Kennedy,
Permit Officer, Office of Polar Programs.

[FR Doc. 02-22652 Filed 9-5-02; 8:45 am]

BILLING CODE 7555-01-M